DEPARTMENT OF HEALTH AND HUMAN SERVICES

Agency for Healthcare Research and Quality

Meeting of the Citizens' Health Care Working Group

AGENCY: Agency for Healthcare Research and Quality (AHRQ), HHS.

ACTION: Notice of public meeting.

SUMMARY: In accordance with section 10(a) of the Federal Advisory Committee Act, this notice announces a meeting of the Citizens' Health Care Working Group (the Working Group) mandated by section 1014 of the Medicare Modernization Act.

DATES: A business meeting of the Working Group will be held on Tuesday, May 23, 2006; Wednesday, May 24, 2006; and, Thursday, May 25, 2006. Sessions on May 23 and May 24 will be from 8:30 a.m. to 4 p.m. The session on May 25 will begin at 8:30 a.m. and end at 2 p.m.

ADDRESSES: The meeting will take place at the conference room of the United Food and Commercial Workers International Union, in Washington, DC. The office is located at 1775 K Street, NW., Washington, DC 20006. The main receptionist area is located on the 7th floor; the conference room is located on the 11th floor. The meeting is open to the public.

FOR FURTHER INFORMATION CONTACT: Caroline Taplin, Citizens' health Care Working Group, at (301) 443-1514 or caroline.taplin@ahrq.hhs.gov. If sign language interpretation or other reasonable accommodation for a disability is needed, lease contact Mr. Donald L. Inniss, Director, Office of Equal Employment Opportunity Program, Program Support Center, at (301) 443-1144.

The agenda for this Working Group meeting will be available on the Citizens' Working Group Web site, http://www.citizenhealthcare.gov. Also available a that site is a roster of Working Group members. when a summary of this meeting is completed, it will also be available on the Web Site.

SUPPLEMENTARY INFORMATION: Section 1014 of Public Law 108-173, (known as the Medicare Modernization Act) directs the Secretary of the Department of Health and Human Services (DHHS), acting through the Agency for Healthcare Research and Quality, to establish a Citizens' Health Care Working Group (Citizen Group). This statutory provision, codified at 42 U.S.C. 299 n., directs the Working Group to: (1) Identify options for changing our health care system so that every American has the ability to obtain quality, affordable health care coverage; (2) provide for a nationwide public debate about improving the health care systems; and, (3) submit is recommendations to the President and the Congress.

The Citizens' Health Care Working Group is composed of 15 members: the Secretary of DHHS is designated as a member by statute and the Comptroller General of the U.S. Government Accountability Office (GAO) was directed to name the remaining 14 members whose appointments were announced on February 28, 2005.

Working Group Meeting Agenda

The Working Group business meeting on May 23rd through May 25th will be devoted to ongoing Working Group business. The principal topic to be addressed will be the development of the Working Group's interim recommendations.

Submission of Written Information

To fulfill its change describe above, the Working Group has been conducting a public dialogue on health care in America through public meetings held across the country and through comments received on its Web site, http://www.citizenshealthcare.gov. The Working Group invites members of the public to the Web site to be part of that dialogue.

Further, the Working Group will accept written submissions for consideration at the Working Group business meeting listed above. In general, individuals or organizations wishing to provide written information for consideration by the Citizens' Health Care Working Group at this meeting should submit information electronically to citizenshealth@ahrq.gov.

This notice is published less than 15 days in advance of the meeting due to logistical difficulties.

Dated: May 10, 2006.
Carolyn M. Clancy,
Director.

[FR Doc. 06-4573 Filed 5-11-06; 1:38 pm]

BILLING CODE 4160-90-M